DEPARTMENT OF AGRICULTURE

Forest Service

Notice of New Fee Site; Federal Lands Recreation Enhancement Act, (Title VIII, Pub. L. 108-447)

AGENCY: Eldorado National Forest, USDA Forest Service.

ACTION: Notice of a proposed new fee site.

SUMMARY: The Eldorado National Forest is planning to charge a $5 fee for the day use at the Woods Lake Picnic Area, located on the Amador Ranger District Ranger District. This existing picnic area has been available for use without a fee prior to this time. Funds from the new standard amenity day use fee will be used for the continued operation and maintenance of Woods Lake Picnic Area. The Eldorado National Forest currently has five other day use areas at which fees are charged under the Recreation Enhancement Act, including the nearby Carson Pass, Meiss, and Woods Lake Trailheads that provide access into the Carson Pass Management Area. A business analysis of Woods Lake Picnic Area has shown that people desire having this sort of recreation experience on the Eldorado National Forest. A market analysis indicates that the $5/per vehicle fee is both reasonable and acceptable for this sort of recreation experience. Fees will be collected at the site using a self pay fee tube. The following annual passes will be accepted in lieu of a daily fee: Eldorado National Forest/Lake Tahoe Basin Management Unit Annual Pass, or one of the following Federal Passes: Interagency Annual Pass, Interagency Senior Pass, Interagency Volunteer Pass, or Interagency Access Pass.

DATES: The new fees at Woods Lake Picnic Area will become effective May 1, 2008.

ADDRESSES: Forest Supervisor, Eldorado National Forest, 100 Forni Road, Placerville, CA 95667.

FOR FURTHER INFORMATION CONTACT: Diana Erickson, Recreation Fee Coordinator, (530) 621-5214.

SUPPLEMENTARY INFORMATION: The Federal Recreation Lands Enhancement Act (Title VII, Pub. L. 108-447) directed the Secretary of Agriculture to publish a six month advance notice in the Federal Register whenever new recreation fee areas are established. This new fee will be reviewed by a Recreation Resource Advisory Committee prior to a final decision and implementation.

Dated: May 8, 2007.
Ramiro Villalvazo,
Eldorado National Forest Supervisor.

[FR Doc. 07-2351 Filed 5-11-07; 8:45 am]

BILLING CODE 3410-11-M